DEPARTMENT OF THE INTERIOR

Bureau of Land Management

[WO-350-1430-ET; UTU-79769]

Public Land Order No. 7563; Transfer of Jurisdiction, Development of Air Force Morale, Welfare, and Recreation Facility; Utah

AGENCY: Bureau of Land Management.

ACTION: Public Land Order.

SUMMARY: This order transfers administrative jurisdiction of 26.61 acres of public land near Park City, Utah from the Secretary of the Interior, Bureau of Land Management to the Secretary of the Air Force for development as a morale, welfare, and recreation facility. This transfer of jurisdiction is authorized by section 2862 of the National Defense Authorization Act for Fiscal Year 2002 (Pub. L. 107-107).

EFFECTIVE DATE: April 28, 2003.

FOR FURTHER INFORMATION CONTACT: Mike Nelson, Salt Lake Field Office, 2370 South 2300 West, Salt Lake City, Utah 84119, 801-977-4355.

Order

By virtue of the authority vested in the Secretary of the Interior by section 204 of the Federal Land Policy and Management Act of 1976, 43 U.S.C. 1714 (1994) and section 2862 of the National Defense Authorization Act for Fiscal Year 2002 (Pub. L. 107-107), it is ordered as follows:

1. Subject to valid existing rights, the administrative jurisdiction of the following described land is hereby transferred to the Secretary of the Air Force for development of a morale, welfare, and recreation facility:

Salt Lake Meridian

T. 2 S., R. 4 E.,

Sec. 3, lots 8 and 10.

The area described contains 26.61 acres in Summit County.

2. Future use and disposition of the land described in Paragraph 1 shall be in accordance with the provisions of section 2862 of Public Law 107-107.

Dated: April 8, 2003.
Rebecca W. Watson,
Assistant Secretary—Land and Minerals Management.

[FR Doc. 03-10318 Filed 4-25-03; 8:45 am]

BILLING CODE 4310-DQ-P